DEPARTMENT OF COMMERCE

National Oceanic and Atmospheric Administration

RIN: 0648-XQ42

Gulf of Mexico Fishery Management Council; Public Meetings

AGENCY: National Marine Fisheries Service (NMFS), National Oceanic and Atmospheric Administration (NOAA), Commerce.

ACTION: Notice of public meetings.

SUMMARY: The Gulf of Mexico Fishery Management Council will convene public meetings.

DATES: The meetings will be held August 11-13, 2009.

ADDRESSES: The meetings will be held at the Perdido Beach Resort, 27200 Perdido Beach Blvd., Orange Beach, AL 36561.

Council address: Gulf of Mexico Fishery Management Council, 2203 North Lois Avenue, Suite 1100, Tampa, FL 33607.

FOR FURTHER INFORMATION CONTACT: Dr. Stephen Bortone, Executive Director, Gulf of Mexico Fishery Management Council; telephone: (813) 348-1630.

SUPPLEMENTARY INFORMATION:

Council

Thursday, August 13, 2009

8:30 a.m. - The Council meeting will begin with swearing in of the new council members, a review of the agenda and minutes.

8:50 a.m. - 12 p.m. - The Council will receive public testimony on exempted fishing permits (EFPs), if any; Final SAFMC Comprehensive Ecosystem-Based Amendment 1; Final Action on Reef Fish Amendment 31, and the Council will hold an open public comment period regarding any fishery issue of concern. People wishing to speak before the Council should complete a public comment card prior to the comment period.

1:30 p.m. - 2 p.m. - The Council will receive a report on the Gulf of Mexico Alliance activities.

2 p.m. - 5:30 p.m. - The Council will review and discuss reports from the committee meetings as follows: Reef Fish Management; Advisory Panel Selection; Scientific and Statistical Committee Selection; Budget/Personnel; Spiny Lobster Management; Sustainable Fisheries/Ecosystem; Highly Migratory Species; and Data Collection.

5:30 p.m. - 6 p.m. - The Council will review and potentially revise the proposed SEDAR schedule.

6 p.m. - 6:15 p.m. - Other Business items will follow.

6:15 p.m. - 6:30 p.m. - Election of Chairman and Vice Chairman will follow.

The Council will conclude its meeting at approximately 6:30 p.m.

Committees

Tuesday, August 11, 2009

9 a.m. - 11 a.m. - Orientation Session for New Council Members.

12:30 p.m. - 2 p.m. - CLOSED SESSION - The Advisory Panel Selection Committee will consider appointment of members to an Ad Hoc Limited Access Privilege Program.

2 p.m. - 2:30 p.m. - CLOSED SESSION - The Scientific and Statistical Committee Selection Committee will consider appointment of an economist to the SEP.

2:30 p.m. - 5:30 p.m. - The Reef Fish Management Committee will meet to discuss final action on Reef Fish Amendment 31/DEIS to address longline/turtle interactions.

Wednesday, August 12, 2009

8:30 a.m. - 12 p.m. - The Reef Fish Management Committee will meet to receive presentations on “Is There a Better Way to Manage US Shared Commercial and Recreational Fisheries?” and “ Evolving Approaches to Managing Marine Recreational Fisheries”. They will also discuss preliminary analysis of gag and red grouper management measures.

2 p.m. - 3 p.m. - The Sustainable Fisheries/Ecosystem Committee will discuss the Scoping Document for Generic ACL/AM Amendment; Final SAFMC Comprehensive Ecosystem-Based Amendment 1, and receive a report on Catch Shares Task Force.

3 p.m. - 3:30 p.m. - The Spiny Lobster Committee will discuss the Scoping Document for Spiny Lobster Amendment 9.

3:30 p.m. - 4:30 p.m. - The Budget/Personnel Committee will review the 5-year Budget Proposal.

4:30 p.m. - 5 p.m. - The Highly Migratory Species Committee will listen to a presentation on Amendment 3 to Consolidated Highly Migratory Species FMP.

5 p.m. - 5:30 p.m. - The Data Collection Committee will listen to a presentation on Louisiana For-Hire Logbook Program.

6 p.m. - 7 p.m. - There will be an informal open public question and answer session.

Although other non-emergency issues not on the agendas may come before the Council and Committees for discussion, in accordance with the Magnuson-Steven Fishery Conservation and Management Act (Magnuson-Stevens Act), those issues may not be the subject of formal action during these meetings. Actions of the Council and Committees will be restricted to those issues specifically identified in the agendas and any issues arising after publication of this notice that require emergency action under Section 305(c) of the Magnuson-Stevens Act, provided the public has been notified of the Council's intent to take action to address the emergency. The established times for addressing items on the agenda may be adjusted as necessary to accommodate the timely completion of discussion relevant to the agenda items. In order to further allow for such adjustments and completion of all items on the agenda, the meeting may be extended from, or completed prior to the date/time established in this notice.

Special Accommodations

These meetings are physically accessible to people with disabilities. Requests for sign language interpretation or other auxiliary aids should be directed to Tina O'Hern at the Council (see ADDRESSES) at least 5 working days prior to the meeting.

Dated: July 21, 2009.
Tracey L. Thompson,
Acting Director, Office of Sustainable Fisheries, National Marine Fisheries Service.

[FR Doc. E9-17653 Filed 7-23-09; 8:45 am]

BILLING CODE 3510-22-S